DEPARTMENT OF THE INTERIOR

Bureau of Ocean Energy Management

[Docket No. BOEM-2015-0134]

Commercial Leasing for Wind Power on the Outer Continental Shelf Offshore South Carolina—Call for Information and Nominations (Call) MMAA104000

AGENCY: Bureau of Ocean Energy Management (BOEM), Interior.

ACTION: Call for Information and Nominations for Commercial Leasing for Wind Power on the Outer Continental Shelf, Offshore South Carolina.

SUMMARY: BOEM invites the submission of nominations for commercial wind leases that would allow a lessee to propose the construction of a wind energy project on the Outer Continental Shelf (OCS) offshore South Carolina, and to develop the project if approved after further environmental review. Although this announcement is not itself a leasing announcement, the Call Areas described herein, or portions thereof, may be available for future leasing. BOEM will use responses to this Call for Information and Nominations (Call) to gauge specific interest in acquiring commercial wind leases in some or all of the Call Areas, as required by 43 U.S.C. 1337(p)(3).

Parties wishing to submit a nomination in response to this Call should submit detailed and specific information in response to the requirements described in the section entitled, “Required Nomination Information.”

This announcement also requests comments and information from interested and affected parties about site conditions, resources, and multiple uses in close proximity to, or within, the Call Areas that would be relevant to BOEM's review of any nominations submitted and/or to BOEM's subsequent decision to offer all or part of the Call Areas for commercial wind leasing. The information that BOEM is requesting is described in the section of this Call entitled, “Requested Information from Interested or Affected Parties.”

This Call is published pursuant to subsection 8(p)(3) of the OCS Lands Act, 43 U.S.C. 1337(p)(3), which was added by section 388 of the Energy Policy Act of 2005 (EPAct), as well as the implementing regulations at 30 CFR part 585.

The Call Areas described in this notice are located on the OCS offshore South Carolina and are delineated as Grand Strand, Cape Romain, Winyah, and Charleston. The four Call Areas include 110 whole OCS blocks and 84 partial blocks in total and comprise approximately 1,007.56 square nautical miles (nmi) (345,584 hectares). These Call Areas were established in consultation with the BOEM South Carolina Intergovernmental Renewable Energy Task Force (Task Force). A detailed description of the areas and how they were developed is described in the section of this Call entitled, “Description of the Area.”

DATES: BOEM must receive nominations describing your interest in one or more, or any portion of the Call Areas, by a postmarked date of January 25, 2016 January 25, 2016 for your nomination to be considered. BOEM requests comments or submissions of information to be postmarked or delivered by this same date. BOEM will consider only those nominations received that conform to this requirement.

Submission Procedures: If you are submitting a nomination for a lease in response to this Call, please submit your nomination to the following address: BOEM, Office of Renewable Energy Programs, 45600 Woodland Road (VAM-OREP), Sterling, Virginia 20166. In addition to a paper copy of the nomination, include an electronic copy of the nomination on a data storage device. BOEM will list the parties that submitted nominations and the location of the proposed lease areas (i.e., OCS blocks nominated) on the BOEM Web site after the 60-day comment period has closed.

Comments and other submissions of information may be submitted by either of the following two methods:

1. Federal eRulemaking Portal: http://www.regulations.gov. In the entry titled “Enter Keyword or ID,” enter BOEM-2015-0134, and then click “search.” Follow the instructions to submit public comments and view supporting and related materials available for this notice.

2. U.S. Postal Service or other delivery service. Send your comments and information to the following address: Bureau of Ocean Energy Management, Office of Renewable Energy Programs, 45600 Woodland Road (VAM-OREP), Sterling, Virginia 20166.

All responses will be reported on http://www.regulations.gov.

If you wish to protect the confidentiality of your nominations or comments, clearly mark the relevant sections and request that BOEM treat them as confidential. Please label privileged or confidential information “Contains Confidential Information,” and consider submitting such information as a separate attachment. Treatment of confidential information is addressed in the section of this Call entitled, “Protection of Privileged or Confidential Information.” Information that is not labeled as privileged or confidential will be regarded by BOEM as suitable for public release.

FOR FURTHER INFORMATION CONTACT: Jeff Browning, BOEM, Office of Renewable Energy Programs, 45600 Woodland Road (VAM-OREP), Sterling, Virginia 20166, (703) 787-1577 or Jeffrey.Browning@boem.gov.

SUPPLEMENTARY INFORMATION:

Purpose of the Call for Information and Nominations

The Outer Continental Shelf (OCS) Lands Act requires BOEM to award leases competitively, unless BOEM makes a determination that there is no competitive interest (43 U.S.C. 1337(p)(3)). BOEM will make this determination after reviewing the nominations received in response to this Call.

This Call also requests information from interested and affected parties on issues relevant to BOEM's review of nominations for potential leases in the Call Areas. A lease, whether issued through a competitive or noncompetitive process, gives the lessee the exclusive right to subsequently seek BOEM approval for the development of the leasehold. The lease does not grant the lessee the right to construct any facilities; rather, the lease grants the lessee the right to use the leased area to develop its plans, which BOEM must approve before the lessee may proceed to the next stage of the process (30 CFR 585.600 and 585.601). The responses to this Call could lead to the initiation of a competitive leasing process in some parts of the Call Areas (i.e., where competition exists), and a noncompetitive process in other parts of the Call Areas (i.e., where no competitive interest exists). The leasing process is described more completely under the “Determination of Competitive Interest” and “Noncompetitive Leasing Process” sections of this Call. In any parts of the Call Areas where BOEM determines there is no competitive interest, BOEM may proceed with the noncompetitive lease process pursuant to 30 CFR 585.232. If BOEM determines that there is competitive interest in some or all of the Call Areas, then BOEM may proceed with Area Identification (Area ID), as set forth in 30 CFR 585.211(b), and the competitive leasing process set forth under 30 CFR 585.211 through 585.225. Whether the leasing process is competitive or noncompetitive, it will include additional opportunities for the public to provide input, and any proposed actions will be reviewed thoroughly for potential environmental and multiple use impacts. The area(s) that may be finally offered for lease, if any, has/have not yet been determined, and may include less than the total footprint of the Call Areas as identified in this Call.

Background

Energy Policy Act of 2005

The Energy Policy Act of 2005 (EPAct) amended the OCS Lands Act by adding subsection 8(p)(1)(C), which authorizes the Secretary of the Interior to grant leases, easements, or rights-of-way (ROWs) on the OCS for activities that are not otherwise authorized by law and that produce or support production, transportation, or transmission of energy from sources other than oil or gas, including renewable energy sources. The EPAct also required the issuance of regulations to carry out the new authority pertaining to renewable energy on the OCS. The Secretary delegated this authority to issue leases, easements, and ROWs, and to promulgate regulations, to the Director of BOEM. On April 29, 2009, BOEM published the rule, Renewable Energy and Alternate Uses of Existing Facilities on the Outer Continental Shelf, at 30 CFR part 585, which can be found at: http://www.boem.gov/uploadedFiles/30_CFR_585.pdf.

Executive Order 13547: Stewardship of the Ocean, Our Coasts, and the Great Lakes

On July 19, 2010, the President signed Executive Order 13547 (Order) establishing a national ocean policy and the National Ocean Council (75 FR 43023). The Order establishes a comprehensive, integrated national policy for the stewardship of the ocean, our coasts, and the Great Lakes. Where BOEM actions affect the ocean or coast, the Order requires BOEM to take such action as necessary to implement the policy, stewardship principles, and national priority objectives adopted by the Order, with guidance from the National Ocean Council.

BOEM appreciates the importance of coordinating its planning endeavors with other OCS users, regulators and relevant Federal Agencies (e.g., the U.S. Fish and Wildlife Service (USFWS), the National Park Service (NPS), the U.S. Coast Guard (USCG), and the National Oceanic and Atmospheric Administration (NOAA)) and intends to follow principles of marine planning, and coordinate with the regional planning bodies as established by the National Ocean Council. BOEM anticipates that continued coordination with its Intergovernmental Renewable Energy Task Forces will help inform comprehensive marine planning efforts.

BOEM South Carolina Intergovernmental Renewable Energy Task Force

BOEM formed the South Carolina Intergovernmental Renewable Energy Task Force (the “Task Force”) in March 2012, to facilitate coordination among relevant Federal agencies and affected state, local, and tribal governments throughout the leasing process. The Task Force meeting materials are available on the BOEM Web site at: http://www.boem.gov/State-Activities-South-Carolina/.

Environmental Review Process

BOEM intends to prepare an environmental assessment (EA), which will consider the environmental consequences associated with issuing commercial wind leases and approving site assessment activities on those leases within all or some of the Call Areas. BOEM is publishing, concurrently with this Call, a Notice of Intent (NOI) to prepare an EA, which seeks public input in identifying the environmental issues and reasonable alternatives to be considered in the EA.

The EA will consider the reasonably foreseeable environmental consequences associated with leasing and site characterization scenarios within the Call Areas (including geophysical, geotechnical, archaeological, and biological surveys), and site assessment scenarios (including the installation and operation of meteorological towers and/or buoys) on the potential leaseholds. The environmental effects of the construction or operation of any wind energy facility would be considered under a separate, project-specific National Environmental Policy Act (NEPA) process. The NOI also solicits information pertaining to impacts to historic properties, which include historic districts, archaeological sites, and National Historic Landmarks.

Several consultations will be conducted concurrently with, and integrated into, the current NEPA process. These consultations include, but are not limited to, those required by the Coastal Zone Management Act (CZMA), the Endangered Species Act (ESA), the Magnuson-Stevens Fishery Conservation and Management Act, Section 106 of the National Historic Preservation Act (NHPA), and Executive Order 13175—“Consultation and Coordination with Tribal Governments.” The results of these consultations will assist BOEM in deciding whether and where leases may be issued.

Actions Taken by the State of South Carolina in Support of Offshore Renewable Energy Development

BOEM recognizes the importance of the steps that the State of South Carolina has taken to encourage environmentally sound offshore wind energy development. While a state may promote such development, BOEM has the exclusive authority to issue leases, easements, and ROWs on the OCS for renewable energy purposes.

The State of South Carolina has been engaged in a planning process to evaluate and identify areas of the OCS that may be suitable for offshore wind energy development. This process helped inform state recommendations to BOEM regarding potentially suitable areas for BOEM to consider when moving forward with its offshore wind energy leasing process.

In 2008, the South Carolina General Assembly passed Act 318 to create the Wind Energy Production Farms Feasibility Study Committee (Committee) to study and make recommendations regarding the feasibility of wind turbines in the state, as well as the potential economic and environmental impacts of development.

Also in 2008, the State of South Carolina, along with multiple partners, obtained a DOE grant entitled, The South Carolina Roadmap to Gigawatt-Scale Coastal Clean Energy Generation: Transmission, Regulation & Demonstration. The grant funded an offshore wind transmission study; a wind, wave, and current study; and a comprehensive spatial database on existing resources and activities.

Also funded under this grant was a South Carolina Regulatory Task Force, which was established in April 2009 to review the current regulatory environment and identify potential barriers to wind, wave and tidal energy development off the coast of South Carolina. This group is composed of State and Federal regulatory and resource protection agencies, universities, private industry and utility companies, and is distinct from BOEM's Task Force.

In 2014, BOEM initiated a cooperative research agreement with South Carolina that was coordinated through the South Carolina Sea Grant Consortium. Information from this research agreement will assist BOEM in planning efforts offshore South Carolina, including environmental documents and consultations.

BOEM's Planning and Leasing Process

Determination of Competitive Interest

The first step in the leasing process is to determine whether or not there is any interest in acquiring a lease within the Call Areas for the purpose of offshore wind development. At the same time, BOEM can determine whether there is overlapping interest in any particular portion of the Call Areas that would result in the need for a competitive process. At the conclusion of the comment period for this Call, BOEM will review the nominations received, undertake completeness and qualifications reviews, and determine whether competitive interest exists in any specific location within the Call Areas.

If two nominated areas of interest fully or partially overlap, BOEM may proceed with competitive leasing as described in the section of this Call entitled, “Competitive Leasing Process.” For areas where BOEM determines that there is no competitive interest, BOEM may proceed with noncompetitive leasing described in the section entitled, “Noncompetitive Leasing Process.” BOEM may consult with the Task Force throughout the leasing process.

Situations may arise in which multiple parties nominate areas that do not overlap. Under those circumstances, BOEM could choose to employ an allocation system of leases that involves the creation of competition across tracts. This system is referred to as intertract competition and would also be implemented under the competitive process outlined in the regulations. BOEM may consult with the Task Force in determining the need for, and/or use of, intertract competition.

Respondents to this Call and members of the public should be aware that no lease will be issued, either competitively or noncompetitively, until the necessary consultations and environmental analysis have been completed and the public has been given an opportunity to comment. As a result, it is also possible that certain areas nominated may not be leased, or that the areas nominated may be modified from their original, proposed form before being offered for lease. It is possible that responses to this Call may result in a determination that there is competitive interest in acquiring leases in some areas, but not in others. BOEM will publicly announce its determinations before proceeding with any type of leasing process.

Competitive Leasing Process

If, after receiving responses and nominations to this Call, BOEM proceeds with the competitive leasing process for certain areas, it would follow the steps required by 30 CFR 585.211 through 585.225.

(1) Area Identification: Based on the information submitted in response to this Call and the NOI, BOEM would determine the level of interest and identify the area(s) that would be appropriate to move forward within the planning and leasing process. The area(s) identified will constitute a Wind Energy Area (WEA) under the Secretary's “Smart from the Start” wind energy initiative and will be subject to environmental analysis, in consultation with appropriate Federal agencies, states, local governments, tribes, and other interested parties.

(2) Proposed Sale Notice (PSN): If BOEM decides to proceed with competitive lease issuance in the WEAs after completion of the environmental analysis, then BOEM would publish the PSN in the Federal Register with a comment period of 60 days and send the PSN to the Governor of each affected state, and the executive of any affected local government. BOEM will also share the PSN with the Task Force. The PSN would describe the area(s) to be offered for leasing, the proposed conditions of a lease sale, and the proposed auction format, lease document, and lease provisions/stipulations. Additionally, the PSN would describe the criteria and process for evaluating bids.

(3) Final Sale Notice (FSN): If BOEM decides to proceed with competitive lease issuance after considering comments on the PSN, then it would publish the FSN in the Federal Register at least 30 days before the date of the lease sale.

(4) Bid Submission and Evaluation: Following publication of the FSN in the Federal Register, BOEM would offer the leases through a competitive process, using procedures specified in the FSN. The conduct of the sale, including bids and bid deposits, would be reviewed for technical and legal adequacy. BOEM will ensure that bidders have complied with all applicable regulations. BOEM reserves the right to reject any or all bids and the right to withdraw an offer to lease an area, even after bids have been submitted.

(5) Issuance of a Lease: Following the selection of a winning bid(s) by BOEM, the bidder(s) would be notified of the decision and provided a set of official lease documents for execution. The successful bidder(s) would be required to sign and return the lease, pay the remainder of the bonus bid, if applicable, and file the required financial assurance within 10 days of receiving the lease documents. Upon receipt of the required payments, financial assurance, and properly signed lease forms, BOEM would execute a lease with the successful bidder(s).

Noncompetitive Leasing Process

(1) Determination of No Competitive Interest: If, after evaluating the responses to this Call, BOEM determines that there is no competitive interest in a proposed lease area, it may proceed with the noncompetitive lease issuance process pursuant to 30 CFR 585.232, as amended by the rulemaking which took effect on June 15, 2011 (76 FR 28178). Should BOEM decide to proceed with the noncompetitive leasing process, it would ask if the sole respondent who nominated a particular area wants to proceed with acquiring the lease. If so, the respondent must submit an acquisition fee as specified in 30 CFR 585.502(a). After receiving the acquisition fee, BOEM would follow the process outlined in 30 CFR 585.231(d) through (i). If BOEM determines there is no competitive interest, BOEM would publish a notice of Determination of No Competitive Interest in the Federal Register.

(2) Review of Lease Request: BOEM would comply with the requirements of NEPA, CZMA, ESA, NHPA, and other applicable Federal statutes before issuing a lease noncompetitively. BOEM would coordinate and consult, as appropriate, with relevant Federal agencies, affected tribes, and affected state and local governments prior to issuing a noncompetitive lease, and in formulating lease terms, conditions, and stipulations.

(3) Lease Issuance: After completing the review of the lease request, BOEM may offer a noncompetitive lease. BOEM will require a $100,000 lease-specific bond from the lessee before lease issuance. The first 12 months' rent payment is due within 45 days of the date that the lease is received by the Lessee for execution.

Description of the Area

The Call Areas offshore South Carolina are delineated as Grand Strand, Cape Romain, Charleston, and Winyah. The four Areas include 110 whole OCS blocks and 84 partial blocks in total, and comprise approximately 1,007.56 square nmi (345,584 hectares).

Call Area Grand Strand

The boundary of Call Area Grand Strand begins 3 nmi from the shore and extends roughly 23 nmi seaward. It extends from northeast to southwest approximately 46 nmi. Respondents should be aware that Georgetown NI17-09 Blocks 6224,6225,6273,6274, 6322, 6323 border the edge of Submerged Lands Act (SLA) boundary. As a result, while these blocks are considered full OCS lease blocks, they vary in area and are smaller than standard OCS blocks. Official acreages for the blocks located within Official Protraction Diagram (OPD) Georgetown NI17-09 can be found at: http://www.boem.gov/Oil-and-Gas-Energy-Program/Mapping-and-Data/NI17-09-01-APR-2008.aspx. The entire area is approximately 740.96 square nmi (254,144 hectares) and is described in the table below:

Protraction name | Protraction No. | Block No. | Sub-block
Georgetown | NI17-09 | 6224 | All.
Georgetown | NI17-09 | 6225 | All.
Georgetown | NI17-09 | 6226 | I,M,N,O.
Georgetown | NI17-09 | 6273 | All.
Georgetown | NI17-09 | 6274 | All.
Georgetown | NI17-09 | 6275 | All.
Georgetown | NI17-09 | 6276 | All.
Georgetown | NI17-09 | 6277 | E,F,G,I,J,K,L,M,N,O,P.
Georgetown | NI17-09 | 6278 | I,J,K,L,M,N,O,P.
Georgetown | NI17-09 | 6279 | I,J,K,L,M,N,O,P.
Georgetown | NI17-09 | 6280 | D,G,H,K,L,O,P.
Georgetown | NI17-09 | 6322 | All.
Georgetown | NI17-09 | 6323 | All.
Georgetown | NI17-09 | 6324 | All.
Georgetown | NI17-09 | 6325 | All.
Georgetown | NI17-09 | 6326 | All.
Georgetown | NI17-09 | 6327 | All.
Georgetown | NI17-09 | 6328 | All.
Georgetown | NI17-09 | 6329 | All.
Georgetown | NI17-09 | 6330 | All.
Georgetown | NI17-09 | 6331 | All.
Georgetown | NI17-09 | 6372 | D,H,K,L,M,N,O,P.
Georgetown | NI17-09 | 6373 | All.
Georgetown | NI17-09 | 6374 | All.
Georgetown | NI17-09 | 6375 | All.
Georgetown | NI17-09 | 6376 | All.
Georgetown | NI17-09 | 6377 | All.
Georgetown | NI17-09 | 6378 | All.
Georgetown | NI17-09 | 6379 | All.
Georgetown | NI17-09 | 6380 | All.
Georgetown | NI17-09 | 6381 | All.
Georgetown | NI17-09 | 6382 | A,B,C,E,F,I.
Georgetown | NI17-09 | 6421 | D,G,H,K,L,N,O,P.
Georgetown | NI17-09 | 6422 | All.
Georgetown | NI17-09 | 6423 | All.
Georgetown | NI17-09 | 6424 | All.
Georgetown | NI17-09 | 6425 | All.
Georgetown | NI17-09 | 6426 | All.
Georgetown | NI17-09 | 6427 | All.
Georgetown | NI17-09 | 6428 | All.
Georgetown | NI17-09 | 6429 | All.
Georgetown | NI17-09 | 6430 | All.
Georgetown | NI17-09 | 6431 | A,B,C,D,E,F,G,H,I,J,K,L,M,N,O.
Georgetown | NI17-09 | 6472 | All.
Georgetown | NI17-09 | 6473 | All.
Georgetown | NI17-09 | 6474 | All.
Georgetown | NI17-09 | 6475 | All.
Georgetown | NI17-09 | 6476 | All.
Georgetown | NI17-09 | 6477 | All.
Georgetown | NI17-09 | 6478 | All.
Georgetown | NI17-09 | 6479 | All.
Georgetown | NI17-09 | 6480 | All.
Georgetown | NI17-09 | 6481 | A,B,C,E,F,I,J,M.
Georgetown | NI17-09 | 6521 | A,B,C,D,F,G,H,J,K,L,N,O,P.
Georgetown | NI17-09 | 6522 | All.
Georgetown | NI17-09 | 6523 | All.
Georgetown | NI17-09 | 6524 | All.
Georgetown | NI17-09 | 6525 | All.
Georgetown | NI17-09 | 6526 | All.
Georgetown | NI17-09 | 6527 | All.
Georgetown | NI17-09 | 6528 | All.
Georgetown | NI17-09 | 6529 | All.
Georgetown | NI17-09 | 6530 | A,B,C,D,E,F,G,H,I,J,K,M,N,O.
Georgetown | NI17-09 | 6571 | B,C,D,G,H,K,O,P.
Georgetown | NI17-09 | 6572 | A,B,C,D,E,F,G,H,L,P.
Georgetown | NI17-09 | 6573 | All.
Georgetown | NI17-09 | 6574 | All.
Georgetown | NI17-09 | 6575 | All.
Georgetown | NI17-09 | 6576 | All.
Georgetown | NI17-09 | 6577 | All.
Georgetown | NI17-09 | 6578 | A,B,C,D,E,F,G,H,L,P.
Georgetown | NI17-09 | 6579 | A,B,C,D,E,F,G,H,I,J,K,M,N,O.
Georgetown | NI17-09 | 6580 | A,B,F.
Georgetown | NI17-09 | 6621 | C,D,G,H,L,N,O,P.
Georgetown | NI17-09 | 6622 | D,H,I,J,K,L,M,N,O,P.
Georgetown | NI17-09 | 6623 | All.
Georgetown | NI17-09 | 6624 | All.
Georgetown | NI17-09 | 6625 | All.
Georgetown | NI17-09 | 6626 | All.
Georgetown | NI17-09 | 6627 | All.
Georgetown | NI17-09 | 6628 | D,E,F,G,H,I,J,K,L,M,N,O.
Georgetown | NI17-09 | 6629 | A,B,E.
Georgetown | NI17-09 | 6671 | B,C,D,F,G,H,I,J,K,L,M,N,O,P.
Georgetown | NI17-09 | 6672 | All.
Georgetown | NI17-09 | 6673 | All.
Georgetown | NI17-09 | 6674 | All.
Georgetown | NI17-09 | 6675 | All.
Georgetown | NI17-09 | 6676 | All.
Georgetown | NI17-09 | 6677 | All.
Georgetown | NI17-09 | 6678 | A,B,C,E,F,I.
Georgetown | NI17-09 | 6720 | H,K,L,O,P.
Georgetown | NI17-09 | 6721 | All.
Georgetown | NI17-09 | 6722 | All.
Georgetown | NI17-09 | 6723 | All.
Georgetown | NI17-09 | 6724 | All.
Georgetown | NI17-09 | 6725 | All.
Georgetown | NI17-09 | 6726 | All.
Georgetown | NI17-09 | 6727 | A,B,C,D,E,F,G,I,J,M.
Georgetown | NI17-09 | 6769 | L,N,O,P.
Georgetown | NI17-09 | 6770 | B,C,D,E,F,G,H,I,J,K,L,M,N,O,P.
Georgetown | NI17-09 | 6771 | All.
Georgetown | NI17-09 | 6772 | All.
Georgetown | NI17-09 | 6773 | All.
Georgetown | NI17-09 | 6774 | A,E,I,K,L,M,N,O,P.
Georgetown | NI17-09 | 6775 | All.
Georgetown | NI17-09 | 6776 | A,B,C,D,E,F,G,H,I,J,K,M,N.
Georgetown | NI17-09 | 6777 | A.
Georgetown | NI17-09 | 6818 | D.
Georgetown | NI17-09 | 6819 | A,B,E,F,I,J,M,N,O,P.
Georgetown | NI17-09 | 6820 | A,B,C,D,F,G,H,J,K,L,M,N,O,P.
Georgetown | NI17-09 | 6821 | All.
Georgetown | NI17-09 | 6822 | All.
Georgetown | NI17-09 | 6823 | All.
Georgetown | NI17-09 | 6824 | All.
Georgetown | NI17-09 | 6825 | A,B,C,D,E,F,G,H,I,J,K,L,M,N,O.
Georgetown | NI17-09 | 6826 | A,B,E.
Georgetown | NI17-09 | 6869 | All.
Georgetown | NI17-09 | 6870 | All.
Georgetown | NI17-09 | 6871 | All.
Georgetown | NI17-09 | 6872 | All.
Georgetown | NI17-09 | 6873 | All.
Georgetown | NI17-09 | 6874 | All.
Georgetown | NI17-09 | 6875 | A,B,C,E,F,I.
Georgetown | NI17-09 | 6920 | All.
Georgetown | NI17-09 | 6921 | All.
Georgetown | NI17-09 | 6922 | A,B,C,D,E,F,I,J,M,N.
Georgetown | NI17-09 | 6923 | A,B,C,D,F,G,H,J,K,L,N,O,P.
Georgetown | NI17-09 | 6924 | A,B,C,D,E,F,G,I,J,M.
Georgetown | NI17-09 | 6971 | All.
Georgetown | NI17-09 | 6972 | All.
Georgetown | NI17-09 | 6973 | A,B,C,D,E,F,G,H,I,J,M.
Georgetown | NI17-09 | 6974 | A.
Georgetown | NI17-09 | 7022 | A,B,C,D,E,F,I.

Call Area Cape Romain

The boundary of Call Area Cape Romain begins 6 nmi from the shore and extends roughly 11.5 nmi seaward. It extends from northeast to southwest approximately 32 nmi. The entire area is approximately 183.46 square nmi (62,928 hectares) and is described in the table below:

Protraction name | Protraction No. | Block No. | Sub-block
James Island | NI17-12 | 6014 | H,J,K,L,M,N,O,P.
James Island | NI17-12 | 6015 | All.
James Island | NI17-12 | 6016 | All.
James Island | NI17-12 | 6017 | A,B,C,D,E,F,G,H,I,J,K,L,M,N.
James Island | NI17-12 | 6018 | A,B,C,E.
James Island | NI17-12 | 6062 | J,K,L,M,N.
James Island | NI17-12 | 6063 | All.
James Island | NI17-12 | 6064 | All.
James Island | NI17-12 | 6065 | All.
James Island | NI17-12 | 6066 | A,B,C,D,E,F,G,H,I,J,M.
James Island | NI17-12 | 6111 | L,M,N,O,P.
James Island | NI17-12 | 6112 | A,E,I,J,K,L,M,N,O,P.
James Island | NI17-12 | 6113 | All.
James Island | NI17-12 | 6114 | A,B,C,D,E,F,G,H,I,J,K,L,M,N,O.
James Island | NI17-12 | 6115 | A,B,C,E,F.
James Island | NI17-12 | 6159 | P.
James Island | NI17-12 | 6160 | C,D,F,G,H,I,J,K,L,M,N,O,P.
James Island | NI17-12 | 6161 | All.
James Island | NI17-12 | 6162 | All.
James Island | NI17-12 | 6163 | A,B,C,D,E,F,G,H,I,J,K,M.
James Island | NI17-12 | 6164 | A,B.
James Island | NI17-12 | 6209 | C,D,F,G,H,J,K,L,N,O,P.
James Island | NI17-12 | 6210 | All.
James Island | NI17-12 | 6211 | All.
James Island | NI17-12 | 6212 | A,B,C,D,E,F,I.
James Island | NI17-12 | 6259 | B,C,D,F,G,H,K,L.
James Island | NI17-12 | 6260 | A,B,C,D,E,F,G.
James Island | NI17-12 | 6261 | A,B.
Georgetown | NI17-09 | 7016 | H,L,N,O,P.
Georgetown | NI17-09 | 7017 | All.
Georgetown | NI17-09 | 7065 | P.
Georgetown | NI17-09 | 7066 | All.
Georgetown | NI17-09 | 7067 | A,B,C,D,E,F,G,H,I,J,K,M,N.
Georgetown | NI17-09 | 7068 | A,B,C,D,E,F,G,H,J,K,L,N,O.
Georgetown | NI17-09 | 7115 | B,C,D,E,F,G,H,I,J,K,L,M,N,O,P.
Georgetown | NI17-09 | 7116 | All.
Georgetown | NI17-09 | 7117 | A,B,E,F,G,H,I,J,K,L,M,N,O,P.
Georgetown | NI17-09 | 7118 | B,C,E,F,G,H,I,J,K,L,M,N,O,P.
Georgetown | NI17-09 | 7119 | C,D,G,I.

Call Area Charleston

The boundary of Call Area Charleston begins approximately 23 nmi from the shore and extends roughly 10.5 nmi seaward. It extends from northeast to southwest approximately 10 nmi. The entire area is approximately 41.98 square nmi (14,400 hectares) and is described in the table below:

Protraction name | Protraction No. | Block No. | Sub-block
James Island | NI17-12 | 6414 | O,P.
James Island | NI17-12 | 6415 | G,H,I,J,K,L,M,N,O,P.
James Island | NI17-12 | 6462 | O,P.
James Island | NI17-12 | 6463 | I,J,M,N,O,P.
James Island | NI17-12 | 6464 | All.
James Island | NI17-12 | 6511 | D,H.
James Island | NI17-12 | 6512 | A,B,C,D,E,F,G,H,J,K,L,P.
James Island | NI17-12 | 6513 | All.
James Island | NI17-12 | 6514 | All.
James Island | NI17-12 | 6563 | B,C,D,G,H.
James Island | NI17-12 | 6564 | A,B,C,D,E,F,G,H,J,K,L,O,P.

Call Area Winyah

The boundary of Call Area Winyah begins 35 nmi from the shore and extends roughly 6 nmi seaward. It extends from northeast to southwest approximately 16 nmi. The entire area is approximately 41.14 square nmi (14,112 hectares) and is described in the table below:

Protraction name | Protraction No. | Block No. | Sub-block
James Island | NI17-12 | 6179 | A,B,C,D,E,F,G,H,I,J,K,L,M,N,O.
James Island | NI17-12 | 6180 | A,B,C,D,E,F,I.
James Island | NI17-12 | 6226 | All.
James Island | NI17-12 | 6227 | All.
James Island | NI17-12 | 6228 | A,B,C,D,E,F,G,H,I,J,K,M,N.
James Island | NI17-12 | 6229 | A,B,E.
James Island | NI17-12 | 6276 | All.
James Island | NI17-12 | 6277 | A,B,C,D,E,F,G,I.
James Island | NI17-12 | 6326 | A,B,C,E.

Areas Not Included in the Call

BOEM considered the findings of several studies conducted by the State of South Carolina, Task Force input, and other relevant studies and removed the following areas from further leasing consideration:

1. Artificial reefs that are managed as Habitat Areas of Particular Concern (HAPC's): Lease blocks containing known artificial reefs have not been included because it would likely be impractical to conduct ocean-bottom penetrating activities or install foundations on existing subsea structures or hazards. In addition, there could be the potential for multiple-use issues (i.e., commercial and recreational vessel use, fishing hotspots, and commercial fishing areas). Artificial reefs and their name, reef ID, and known inventory are described in the following table. BOEM may later require set-backs from these or other features.

Reef name | Reef ID | Known inventory
Bp-25 Reef | Pa-06 | 160′ Ship (Bp-25), New York City Subway Cars.
Little River Offshore Reef | Pa-02 | Reef Buoy, Landing Craft, Concrete Culvert Pipe, Concrete Rubble, Army Armored Personnel Carriers, 150′ Dive Barge, 120′ Deck Barge, 50′ Tugboat.
Bill Perry Jr Reef | Pa-08 | Reef Buoy, 115′ Landing Craft, 56′ Landing Craft, 45′ Shrimp Boat, 56′ Landing Craft, 65′ Tugboat, 20 Shipping Containers, New York City Subway Cars.
Vermilion Reef | Pa-17 | 460′ Ship (Vermilion), New York City Subway Cars.
Will Goldfinch Reef | Pa-03 | Reef Buoy, 175′ Ship (Yo-225), 120′ Fuel Barge, Concrete Zs.
Wayne Upchurch Reef | Pa-13 | Reef Buoy, Concrete Structures, Army Armored Personnel Carriers, 45′ Tugboat.
Bruce Rush Reef | Pa-10 | Reef Buoys, 100 Concrete Cones, 65′ Crewboat, 78′ Shrimp Boat, Concrete Reef Balls, Deck Barges, Tugboat & Barge, A-7 Airplane, Shipping Containers.
Greenville Reef | Pa-18 | 140′ Deck Barge, Drydock Units, 130′ Deck Barge, 175′ Ship (Yog-78), 106′ Fuel Barge, 105′ Tugboat (America), 105′ Tugboat (Eagle), 175′ Ship.
Paradise Reef | Pa-09 | Reef Buoy, Deck Barge, Concrete Reef Balls, Army Armored Personnel Carriers, 100 Concrete Cones, Concrete Zs, 65′ Barge & Culvert Pipe, Concrete Culvert Pipe.
Georgetown Reef | Pa-14 | Reef Buoy, 100′ Ship Wreck, Steel Structures, 100′ Deck Barge, 56′ Landing Craft, Concrete Cones, Shipping Containers, 50′ Tugboat, Army Armored Personnel Carriers.
Pawleys Island Reef | Pa-11 | Reef Buoy, 56′ Landing Craft, Concrete Cones, 48′ Tugboat, Army Armored Personnel Carriers, Concrete Culvert Pipe.
C.J. Davidson Jr Reef | Pa-16 | Reef Buoy, 140′ Deck Barge, Steel & Tire Units, 200 Concrete Reef Balls, 20 Army Armored Personnel Carriers, 100 Concrete Cones, Concrete Culvert Pipe.
North Inlet Reef | Pa-12 | Shipping Containers, 200 Concrete Reef Balls, Reef Buoy, 175 Steel Pup Tents, Concrete Culvert Pipe.
Cape Romain Reef | Pa-19 | Reef Buoy, 100′ Deck Barge, 65′ Tugboat, Army Armored Personnel Carriers, Concrete Rubble, 90′ Tugboat (Dolphin), Concrete Culvert Pipe.
Hector Reef | Pa-20 | 300′ Ship (Hector), 22′ Bk Barges, 56′ Landing Craft, Deck Barge, Concrete Culvert Pipe.
Y-73 Reef | Pa-23 | 180′ Tanker (Y-73), 90′ Tug Boats, Steel Pyramid, Shipping Containers, Cooper River Bridge Rubble.
Comanche Reef | Pa-27 | 165′ Ship (Comanche), 105′ Tug Boat (Anne Richards), New York City Subway Cars, Cooper River Bridge Rubble, 80′ Trawler.
Cca-Mcclellanville Reef | Pa-34 | Reef Buoy, Concrete Rubble, 105′ Tugboat, Cooper River Bridge Rubble, 45′ Tug Boat, Concrete Culvert Pipe.
Capers Reef (R8) | Pa-22 | Reef Buoy, CG Buoy R8, Reef Balls, Tug Boats, Deck Barges, Caisson, 56′ Landing Craft, Cooper Bridge Rubble, Concrete Filled Steel Drums, Army Armored Personnel Carriers.
Charleston 60′ Reef | Pa-24 | Reef Buoy, Concrete Reef Balls & Cones, Equipment Sections, Steel, Missile Sleeves, Army Armored Personnel Carriers, Deck Barges, Cooper River Bridge Rubble, Memorial Plaque.

2. Areas of High Avian Densities: BOEM attempts to avoid leasing areas with high concentrations of marine birds that are most vulnerable to offshore wind development. In order to protect marine birds, BOEM has removed areas with moderate or greater concentration of near-shore marine birds. Counts of birds from USFWS's wintering sea duck surveys from 2008-2011 were used to identify areas of high concentrations of scoters. In addition, a map that predicts relatively high concentrations of near-shore marine bird species near the Cape Romain National Wildlife Refuge (NWR) and Winyah Bay was used to fill in information gaps between the sea duck transect lines and to cover other migratory species. The map uses data from an ongoing BOEM/NOAA study entitled, “Integrative Statistical Modeling and Predictive Mapping of Seabird Distribution and Abundance on the Atlantic Outer Continental Shelf,” which can be found at http://www.boem.gov/AT-13-03/. The map is based on NOAA National Centers for Coastal Ocean Science's (NCCOS) version 1.0 models for the US Atlantic (Florida to Maine) that fused environmental predictors with a large database of at-sea transect survey data (extracted from the Avian Compendium database as of August 1, 2014, which can be found at http://www.data.boem.gov/PI/PDFImages/ESPIS/5/5209.pdf) for the following near-shore marine birds: Black scoter; brown pelican; common loon; common tern; least tern; red-throated loon; and white-winged scoter. Relative to the 177 bird species that use the Atlantic OCS, these near-shore species, except the least tern, ranked high in their relative vulnerability to collision with wind turbines. In addition, these species, except the brown pelican and least tern, ranked high in their vulnerability to displacement from wind facilities according to the BOEM study entitled, “The Relative Vulnerability of Migratory Bird Species to Offshore Wind Energy Projects on the Atlantic Outer Continental Shelf,” which can be found at http://www.data.boem.gov/PI/PDFImages/ESPIS/5/5319.pdf.

As with the sea duck survey data, the BOEM/NOAA study confirms that the concentration of birds declines dramatically with distance from shore and that the distance from shore before the dramatic decline in concentration varies widely along the South Carolina coast. Lastly, a study of 28 black scoters that were fitted with satellite transmitters found that most bird locations along the portion of the South Carolina coast encompassing the Call Areas were within five miles of the coast. In fact, out of the 20,333 scoters observed off South Carolina in February during the USFWS winter sea duck surveys, approximately 100 scoters were within the proposed Call Areas.

3. Cape Romain NWR: BOEM has taken steps to protect species that use the Cape Romain NWR by removing blocks with high concentrations of near-shore marine birds. Although Call Area Cape Romain is located offshore of the Cape Romain NWR, certain onshore activities associated with offshore wind energy, such as cable landfalls and staging activities, may not be compatible with the Cape Romain NWR. BOEM will work with the USFWS regarding potential impacts to Cape Romain NWR and, if necessary, will develop appropriate stipulations and mitigation measures to eliminate or reduce impacts.

4. Military Areas: The Department of Defense (DOD) conducts operations and readiness activities for both hardware and personnel on the OCS. The Call Areas were refined based on DOD assessments of compatibility between potential commercial offshore wind development and DOD testing, training and operational activities. OCS blocks determined to be incompatible with these activities were removed from consideration, although site specific stipulations may be necessary for remaining lease blocks in the Call Areas to avoid conflicts with DOD activities. BOEM will consult with the DOD regarding potential issues concerning offshore testing, training and operational activities, and will develop appropriate stipulations to avoid or mitigate conflicts with DOD in the Call Areas.

5. Navigation: The United States Coast Guard (USCG) ensures the safety of navigation and provides safe access routes for the movement of vessel traffic proceeding to or from ports or places subject to the jurisdiction of the United States. The USCG uses a color-coding system to designate portions of the four Call Areas as green, yellow, or red for navigational safety. A designation of green indicates that the USCG believes that an area, if developed, would pose minimal to no detrimental impact on navigational safety, but that the area should still be subject to further study. A designation of yellow indicates that the USCG believes that development of the area could have unacceptable effects on navigational safety and that further study is required to determine the potential effect that development of the area would have on navigational safety. A designation of red indicates that the USCG believes that development of that area would have an unacceptable effect on navigational safety based on existing navigational routes. BOEM has refined the Call Areas based on USCG assessments and areas designated as red have been removed from the Call. Although OCS blocks determined to pose the greatest risk to navigational safety were removed from consideration, site-specific stipulations may be necessary for remaining lease blocks in the Call Areas. A map showing the OCS blocks (including sub-blocks) and their corresponding color coding can be found at: http://www.boem.gov/State-Activities-South-Carolina/.

6. Pawleys Island Historic District—Visual Impacts: BOEM has removed aliquots from the Grand Strand Call Area that are located within 18.5 km kilometers (10 nmi) of the shoreline surrounding the Pawleys Island Historic District. In making its decision, BOEM considered the following information: Comments shared with BOEM at the South Carolina Task Force meeting on September 9, 2015; NHPA Section 106 consultations for the development of the South Atlantic Programmatic Agreement, during which the South Carolina State Historic Preservation Office requested that BOEM consider the visual effects of the introduction of a wind energy facility on the historic setting and feeling of onshore historic properties; and a letter sent to BOEM from the South Carolina State Historic Preservation Office on September 18, 2015, asking BOEM to consider “how the views of the ocean contribute to the historic location, setting, feeling, and association” of these historic properties.

The unique characteristics of Pawleys Island Historic District that may qualify it for the National Register of Historic Places include integrity of setting and feeling. As described by the National Register of Historic Places (NRHP) Nomination Form for Pawleys Island Historic District, “this Island, especially the central part, exemplifies a way of life in its beauty, its setting, and its overall land use. Pawleys is one of the earliest—if not the earliest—of South Carolina's summer beach settlements and maintains integrity in the natural relationship of marsh, beach, and dune.” The nomination form can be found here: http://www.nationalregister.sc.gov/georgetown/S10817722005/S10817722005.pdf.

The decision to set the buffer at 10 nmi is consistent with information obtained from the North Carolina Visual Simulations study, which analyzed meteorological conditions within the North Carolina study areas and are expected to be meteorologically similar to the South Carolina Call Areas. This is the best information presently available to us for use in estimating an effective setback for the purposes of reducing impacts to viewshed for sensitive areas in South Carolina. The study may be found here: http://www.boem.gov/Renewable-Energy-Program/State-Activities/NC/Task-6—Meteorological-Conditions-Final-Report.aspx.

With a setback of 10 nmi, the turbines will not be visible from the shoreline for a majority of the time. The data show that, for an average 24-hour period, there is visibility to 18.5 km (10 nmi) for the majority of the day, 132 days per year (or 36% of the year). At a 10 nmi setback, there will be no effect on the viewshed for the majority of the day, 233 days per year (or 64% of the year). Additional consideration of viewshed impacts to potentially affected historic properties—including the Pawleys Island Historic District—may be undertaken during subsequent Section 106 reviews conducted by BOEM for activities proposed within this area.

7. Grand Strand Call Area—Visual Impacts on Sunset Beach, NC: Portions of the adjacent Grand Strand Call Area are within 10 nmi of Sunset Beach, NC. During the public comment period for the North Carolina Call (published in December 2012), certain stakeholders raised concerns regarding potential visual impacts of offshore wind energy development in areas within the Wilmington West Wind Energy Area (WEA). Based on BOEM's analysis of these concerns, including the North Carolina Visual Simulations study described above, BOEM announced that areas within 10 nmi of Sunset Beach, NC would not be included as part of the Wilmington West WEA. Consistent with its approach in North Carolina, BOEM has therefore removed the OCS blocks from the Grand Strand Call Area that are within 10 nmi of Sunset Beach, NC.

Areas of Interest for Further Analysis

Based on requests received from members of the Task Force, comments received during public information meetings, and initiatives passed by local government officials, BOEM is considering the potential effects of wind energy development on historic properties early in the planning process. BOEM therefore requests specific information on historic properties located in nearshore areas adjacent to the Call Areas. Specifically, BOEM is requesting information on historic sites, districts, and National Historic Landmarks, as well as cultural corridors and other historic properties, whose viewsheds may be a contributing element to eligibility to the NRHP.

There are a total of 88 known properties listed in, or determined to be eligible for listing in, the NRHP located along the coastline within Horry, Georgetown, and Beaufort Counties. These properties include sites, structures, districts, and objects. Specifically, there are seven NRHP-listed lighthouses located within the coastal vicinity of South Carolina (Georgetown Light, Cape Romain Lighthouse, Morris Island Light, Hunting Island Light, Hilton Head Range Light, and Bloody Point Range Lights (within the Daufuskie Island Historic District)). In addition, there are five National Historic Landmarks located within the coastal vicinity of South Carolina (Atalaya and Brookgreen Gardens, Robert William Roper House, USS Yorktown, USS Laffey, and USS Clamagore).

Early in the planning process, BOEM considers the effects of introducing visual elements associated with offshore wind energy development into the landscape. As such, BOEM is requesting information that may guide early development of effective mitigation measures. Potential visual impacts may be mitigated through various means, including siting facilities away from sensitive areas.

Areas Under National Park Service (NPS) Jurisdiction

The mission of the NPS, as set forth under the NPS Organic Act, is to protect the natural and cultural resources, including the scenery, in units of the National Park System, and to provide for their enjoyment in a manner that will leave them unimpaired for future generations (http://www.nps.gov/aboutus/index.htm; also see 16 U.S.C. 1). The NPS has advised BOEM that they are concerned with any project features that would impact the viewshed from Fort Sumter National Monument and other historic properties.

Proposed North Atlantic Right Whale Critical Habitat Expansion

On February 20, 2015, NMFS published a proposed rule to expand critical habitat for North Atlantic right whales in the North Atlantic, adding two new areas (80 FR 9314). Proposed Critical Habitat Unit 2 includes marine waters from Cape Fear, NC southward to 29′ N latitude (approximately 43 miles north of Cape Canaveral, Florida). The Grand Strand and Cape Romain Call Areas overlap with Unit 2 areas in the proposed rule. The proposed critical habitat in the areas that overlap with the Call Areas is based on habitat suitable for North Atlantic right whale calving. BOEM will work with NOAA NMFS regarding potential impacts to any critical habitats and, if necessary, develop appropriate stipulations and mitigation measures to eliminate or reduce impacts.

Gullah/Geechee Cultural Heritage Corridor

The Gullah/Geechee Cultural Heritage Corridor (Corridor) was designated by Congress in 2006 (Pub. L. 109-338) and extends from Wilmington, North Carolina to Jacksonville, Florida. The Corridor is home to a unique culture that was first shaped by West African slaves brought to the southern United States. Their traditions continue today through their descendants, known as the Gullah/Geechee people. The Corridor was established to:

• Recognize the important contributions made to American culture and history by African Americans known as the Gullah/Geechee who settled in the coastal counties of South Carolina, Georgia, North Carolina, and Florida;

• assist state and local governments and public and private entities in South Carolina, Georgia, North Carolina, and Florida in interpreting the story of the Gullah/Geechee and preserving Gullah/Geechee folklore, arts, crafts, and music; and

• assist in identifying and preserving sites, historical data, artifacts, and objects associated with the Gullah/Geechee for the benefit and education of the public.

As a Federal agency potentially affecting the Corridor, BOEM has the responsibility to:

• consult with the Secretary of the Interior and the Gullah/Geechee Cultural Heritage Corridor Commission (GGCHCC) with respect to such activities;

• cooperate with the Secretary of the Interior and the GGCHCC in carrying out their duties and, to the maximum extent practicable, coordinate such activities with the carrying out of such duties; and

• to the maximum extent practicable, conduct or support such activities in a manner which the GGCHCC determines will not have an adverse effect on the Corridor.

BOEM is asking for information on areas within the Corridor which may be affected by wind energy development on the OCS offshore South Carolina and any mitigation measures which may be implemented to reduce potential impacts.

Navigational Issues

BOEM has analyzed USCG 2009 through 2012 Automatic Identification System (AIS) data, including density plots (by 1/16th of an OCS Block) for various individual vessel types (e.g. tankers, cargo vessels, tugs, etc.) that traverse the OCS offshore South Carolina. The AIS data used to conduct this analysis, in addition to other AIS tools, can be downloaded at: http://www.marinecadastre.gov/AIS/default.aspx. BOEM encourages respondents and interested parties to incorporate this information into their decision-making and comments and when nominating areas.

The USCG considers the placement of offshore wind assessment and generation facilities in any area within 2 nmi of traditional shipping routes poses a risk to navigational safety and therefore does not recommend placement of such facilities in those areas. The USCG considers placement of such wind facilities in areas greater than 5 nmi from existing shipping routes to pose minimal risk to navigational safety. Areas considered for placement of wind facilities between 2 nmi and 5 nmi would require additional USCG analysis to determine if mitigation factors could be applied to bring navigational safety risk within USCG acceptable levels.

North Carolina: Wilmington West Wind Energy Area

The Grand Strand Call Area is adjacent to the Wilmington West WEA in North Carolina. Certain North Carolina stakeholders have expressed concerns over visual impacts from offshore wind energy development. The state of North Carolina and other local governments have requested a 24 nmi buffer from the North Carolina coastline. BOEM considers the effects of visual elements associated with offshore wind energy development, and will continue to do so throughout the planning process offshore South Carolina. As such, BOEM is requesting information and comments that may guide the early development of potential mitigation measures for visual impacts in Call Areas offshore South Carolina.

Required Nomination Information

If you intend to submit a nomination for a commercial wind energy lease in the areas identified in this notice, you must provide the following information: (1) The BOEM Protraction name, number, and specific whole or partial OCS blocks within the Call Area(s) that are of interest for commercial wind leasing, including any required buffer area. This information should be submitted as a spatial file compatible with ArcGIS 10.0 in a geographic coordinate system (NAD 83) in addition to your hard copy submittal. If your proposed lease area(s) includes one or more partial blocks, please describe those partial blocks in terms of a sixteenth (i.e., sub-block) of an OCS block. BOEM will not consider any areas outside of the Call Areas in this process.

(2) A description of your objectives and the facilities that you would use to achieve those objectives.

(3) A preliminary schedule of proposed activities, including those leading to commercial operations.

(4) Available and pertinent data and information concerning renewable energy resources and environmental conditions in the area(s) that you wish to lease, including energy and resource data and information used to evaluate the Call Areas. Where applicable, spatial information should be submitted in a format compatible with ArcGIS 10.0 in a geographic coordinate system (NAD 83).

(5) Documentation demonstrating that you are legally qualified to hold a lease, as set forth in 30 CFR 585.106 and 107. Examples of the documentation appropriate for demonstrating your legal qualifications and related guidance can be found in Chapter 2 and Appendix B of the BOEM Renewable Energy Framework Guide Book available at: http://www.boem.gov/REnGuidebook_03/. Legal qualification documents will be placed in an official file that may be made available for public review. If you wish that any part of your legal qualification documentation be kept confidential, clearly identify what should be kept confidential, and submit it under separate cover (see “Protection of Privileged or Confidential Information Section”, below).

(6) Documentation demonstrating that you are technically and financially capable of constructing, operating, maintaining and decommissioning the facilities described in (2) above. Guidance regarding the required documentation to demonstrate your technical and financial qualifications can be found at: http://www.boem.gov/Renewable-Energy-Program/Regulatory-Information/QualificationGuidelines-pdf.aspx. Any documentation you submit to demonstrate your legal, technical, and financial qualifications must be provided to BOEM in both paper and electronic formats. BOEM considers an Adobe PDF file on a storage media device to be an acceptable format for an electronic copy.

It is critical that you submit a complete nomination so that BOEM may evaluate your submission in a timely manner. If BOEM reviews your nomination and determines that it is incomplete, BOEM will inform you of this determination in a letter describing the information that BOEM determined to be missing from your nomination. You must then submit this information in order for BOEM to deem your submission complete. You will be given 15 business days from the date of that letter to submit the information that BOEM found to be missing from your original submission. If you do not meet this deadline, or if BOEM determines this second submission is insufficient and has failed to complete your nomination, then BOEM retains the right to deem your nomination invalid. In such a case, BOEM will not process your nomination.

It is not required that you submit a nomination in response to this Call in order to submit a bid in a potential competitive lease sale offshore South Carolina, should BOEM determine that competitive interest exists in one or more portions of the Call Areas after the close of the Call comment period. However, you will not be able to participate in such a lease sale unless you demonstrate prior to the sale that you are legally qualified to hold a BOEM renewable energy lease, and you demonstrate that you are technically and financially capable of constructing, operating, maintaining, and decommissioning the facilities you would propose to install on your lease. To ensure that BOEM has sufficient time to process your qualifications package, you should submit this package during the PSN 60-day public comment period. More information can be found at: http://www.boem.gov/Renewable-Energy-Program/Regulatory-Information/QualificationGuidelines-pdf.aspx.

Requested Information From Interested or Affected Parties

BOEM is requesting specific and detailed comments from the public and other interested or affected parties regarding the following:

1. Geological, geophysical, and biological conditions (including bottom and shallow hazards and live bottom) in the area described in this notice.

2. Known archaeological and/or cultural resource sites on the seabed in the areas described in this notice.

3. Historic properties potentially affected by the construction of meteorological towers, the installation of meteorological buoys, or commercial wind development in the areas identified in this Call.

4. Multiple uses of the areas, including navigation (commercial and recreational vessel use), fishing hotspots, and commercial fishing areas.

5. Information relating to whether or not offshore wind turbines located in the areas identified in this notice would adversely affect the South Carolina seascape, and ideas or strategies that could be used to help mitigate or minimize any adverse visual effects, such as: how far offshore turbines should be placed to minimize the visual impact from the coastline; specific locations or areas to avoid development altogether; or any other strategies to help reduce the visual footprint (for example, the color of the turbines [towers, nacelle, blades], the arrangement or pattern of the turbine array, the dimension of the turbines (e.g., height and blade span), visual navigational lighting requirements, the maximum number of turbines that should be allowed in a specific area, etc.).

6. The type of transmission system (e.g., Alternating Current (AC), High Voltage-Direct Current (HVDC), etc.) a prospective developer would likely utilize for a wind facility offshore South Carolina. If AC, please state and explain the maximum distance you would be willing to run an AC transmission system to deliver power from an offshore wind facility to an onshore substation.

7. General interest by a developer(s) in constructing a backbone transmission system that would transport electricity generated by wind projects located offshore South Carolina, including a general description of the transmission's proposed path and potential interconnection points.

8. Available and pertinent data and information concerning renewable energy resources and environmental conditions in the area identified in this notice. Where applicable, spatial information should be submitted in a format compatible with ArcGIS 10.0 in a geographic coordinate system (NAD 83).

9. Habitats that may require special attention during siting and construction.

10. Other relevant socioeconomic, biological, and environmental information.

Protection of Privileged or Confidential Information

Freedom of Information Act

BOEM will protect privileged or confidential information that you submit when required by the Freedom of Information Act (FOIA). Exemption 4 of FOIA applies to trade secrets and commercial or financial information that you submit that is privileged or confidential. If you wish to protect the confidentiality of such information, clearly mark it and request that BOEM treat it as confidential. BOEM will not disclose such information if it qualifies for exemption from disclosure under FOIA. Please label privileged or confidential information “Contains Confidential Information” and consider submitting such information as a separate attachment.

BOEM will not treat as confidential any aggregate summaries of such information or comments not containing such information. Additionally, BOEM will not treat as confidential (1) the legal title of the nominating entity (for example, the name of your company), or (2) the list of whole or partial blocks that you are nominating. Information that is not labeled as privileged or confidential will be regarded by BOEM as suitable for public release.

Section 304 of the National Historic Preservation Act (16 U.S.C. 470w-3(a))

BOEM is required, after consultation with the Secretary, to withhold the location, character, or ownership of historic resources if it determines that disclosure may, among other things, risk harm to the historic resources or impede the use of a traditional religious site by practitioners. Tribal entities should designate information that falls under Section 304 of NHPA as confidential.

Dated: November 18, 2015.
Abigail Ross Hopper,
Director, Bureau of Ocean Energy Management.

[FR Doc. 2015-29908 Filed 11-24-15; 8:45 am]

BILLING CODE 4310-MR-P